DEPARTMENT OF HEALTH AND HUMAN SERVICES

National Institutes of Health

National Cancer Institute; Amended Notice of Meeting

Notice is hereby given of a change in the meeting of the Subcommittee E—Cancer Epidemiology, Prevention & Control, July 30, 2002, 4 p.m., to July 31, 2002, 5:30 p.m., 8120 Wisconsin Avenue, Bethesda, MD 20814 which was published in the Federal Register on June 26, 2002, 67FR43132.

The meeting has been amended to change the end date from July 31, 2002 to August 1, 2002. The meeting is closed to the public.

Dated: July 19, 2002.
LaVerne Y. Stringfield,
Director, Office of Federal Advisory Committee Policy.

[FR Doc. 02-18931 Filed 7-25-02; 8:45 am]

BILLING CODE 4440-01-M